DEPARTMENT OF HEALTH AND HUMAN SERVICES

National Institutes of Health

National Institutes of Health Guidelines for Research Using Human Pluripotent Stem Cells; Correction

ACTION: Notice; correction.

SUMMARY: The National Institutes of Health published in the Federal Register on August 25, 2000, the final National Institutes of Health Guidelines for Research Using Human Pluripotent Stem Cells (65 FR 51976). The final Guidelines contained incorrect citations and other errors. The final Guidelines, with the corrections made in this notice, are available on the NIH stem cell information web site at:(http://www.nih.gov/news/stemcell/index.htm). For additional information on human pluripotent stem cells, refer to this web site.

FOR FURTHER INFORMATION CONTACT: NIH Office of Science Policy, Attention: HPSCRG, Building 1, Room 218, MSC 0166, 9000 Rockville Pike, Bethesda, MD 20892, (301) 594-7741 or e-mail stemcell@mail.nih.gov.

Corrections

1. In Section II.A.2.d of the Guidelines (65 FR 51980, first column), change “human pluripotent stem cells,” at the end of the section, to “embryo.”

2. In Section II.B.1.a. of the Guidelines (65 FR 51980, second column), change “Section II.A.2” to “Section II.B.2.”

3. In Section II.B.2.a. of the Guidelines (65 FR 51980, third column), add the following at the end of the section: “and with 42 U.S.C. § 289g-2(b).”

4. In Section IV.B. of the Guidelines (65 FR 51981, first column), change “applications shall” in the first sentence to “documentation of compliance with the Guidelines will” and insert after “by HPSCRG and” the words, “all applications will be reviewed”.

Dated: November 15, 2000.
Ruth L. Kirschstein,
Principal Deputy Director, NIH.

[FR Doc. 00-29791 Filed 11-20-00; 8:45 am]

BILLING CODE 4140-01-M